DEPARTMENT OF JUSTICE

Notice of Lodging of Consent Decree Under the Comprehensive Environmental Response, Compensation and Liability Act

Under 28 CFR 50.7, notice is hereby given that on April 28, 2004, a proposed consent decree in United States v. Precision National Plating Services, Inc., Civil Action No. 3:04 CV 936 was lodged with the United States District Court for the Middle District of Pennsylvania.

In this action the United States sought cost recovery for costs incurred in connection with the Precision National Plating Services Superfund Site (the “Site”), located near Clarks Summit, Lackawanna County, Pennsylvania. Under the terms of the consent decree, the proposed settling defendant would pay $800,000 to EPA to cover past response costs.

The Department of Justice will receive for a period of thirty (30) days from the date of this publication comments relating to the consent decree. Comments should be addressed to the Assistant Attorney General, Environment and Natural Resources Division, PO box 7611, U.S. Department of Justice, Washington, DC 20044-7611, and should refer to United States v. Precision National Plating Services, Inc., Civil Action No. 3:04 CV 936, D.J. Ref. 90-11-3-07298.

The consent decree may be examined at the Office of the United States Attorney, Suite 311, 235 N. Washington Avenue, Scranton, Pennsylvania 18503, and at U.S. EPA Region III, 1650 Arch Street, Philadelphia, Pennsylvania 19103-2029. A copy of the consent decree may also be examined on the following Department of Justice Web site, http://www.usdoj.gov/enrd/open.html. A copy of the consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy of the consent decree, please enclose a check in the amount of $5.00 (25 cents per page reproduction cost) payable to the U.S. Treasury.

Robert Brook,
Assistant Section Chief, Environmental Enforcement Section, Environment and Natural Resources Division.

[FR Doc. 04-10839 Filed 5-12-04; 8:45 am]

BILLING CODE 4410-15-M